DEPARTMENT OF TRANSPORTATION

National Highway Traffic Safety Administration

[Docket No. NHTSA-2001-10620]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

Dates: Comments must be received on or before November 26, 2001.

Addresses: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 9 a.m. to 5 p.m.

FOR FURTHER INFORMATION CONTACT: For further information, contact Edward Jettner, NHTSA, 400 Seventh Street, SW., Room 5320, NPS-11, Washington, DC 20590. Mr. Jettner's telephone number is (202) 366-4917. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: Phase-in Production Reporting Requirements for Advanced Air Bags.

Type of Request: Extension of a currently approved collection.

Affected Public: Individuals, households, business, other for-profit, not-for-profit, farms, Federal Government and State, Local or Tribal Government.

OMB Control Number: 2127-0599.

Abstract: 49 U.S.C. 30111,30112, and 30117 authorize the issuance of Federal Motor Vehicle Safety Standards (FMVSS) and the collection of data which support their implementation. Using this authority, the agency issued a modification to FMVSS 208, Occupant Crash Protection, to require advanced air bags in accordance with the Transportation Equity Act of the 21st Century (TEA 21) which was enacted by the United States Congress in 1998.

A two-stage phase-in is included in FMVSS 208 to allow for the introduction of advanced air bags. Manufacturers must equip a certain percentage of their new vehicle fleets with advanced air bags and report their production to NHTSA according to the following schedule, arranged to provide introduction of advanced air bags in two discrete phases:

| Percent
Phase 1 Production Reporting
First year (model year 2004), beginning September 1, 2003 | 35
Second year (model year 2005) beginning September 1, 2004 | 65
Third year (model year 2006) beginning September 1, 2005
Phase 2 Production Reporting | 100%
First year (model year 2008), beginning September 1, 2007 | 35
Second year (model year 2009) beginning September 1, 2008 | 65
Third year (model year 2010) beginning September 1, 2009 | 100

For each report, the manufacturer will provide, in addition to the identity, addresses, etc., several numerical items of information. The information includes, but is not limited to, the following items.

Total number of vehicles manufactured for sale during the preceding production year; and

Total number of vehicles manufactured during the production year that are in compliance with the regulatory requirements.

Estimated Annual Burden: 1260 hours.

Number of Respondents: 21.

Issued on: September 20, 2001.
Stephen R. Kratzke,
Associate Administrator for Safety Performance Standards.

[FR Doc. 01-23988 Filed 9-25-01; 8:45 am]

BILLING CODE 4910-59-P